DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Northeast Region Gear Identification Requirements.

OMB Control Number: 0648-0351.

Form Number(s): NA.

Type of Request: Regular submission (extension of a current information collection).

Number of Respondents: 7,088.

Average Hours per Response: 1 minute to mark each piece of gear.

Burden Hours: 23,256.

Needs and Uses: This request is for extension of a current information collection.

As part of fishery management plans developed under the authority of the Magnuson-Stevens Fishery Conservation and Management Act (MSA), Federal fishing permit holders using specified fishing gear are required to mark that gear with specified information for the purposes of identification (e.g., United States Coast Guard official vessel number, Federal permit number, or other methods identified in the regulations at 50 CFR 648-84 and others). The regulations specify how the gear is to be marked for the purposes of visibility (e.g., buoys, radar reflectors, or other methods identified in the regulations). The display of the identifying characters on fishing gear aids in fishery law enforcement, and the marking of gear for visibility increases safety at sea.

Affected Public: Business or other for-profit organizations.

Frequency: Annually.

Respondent's Obligation: Mandatory.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: February 4, 2011.
Gwellnar Banks,
Management Analyst, Office of the Chief Information Officer.

[FR Doc. 2011-2906 Filed 2-9-11; 8:45 am]

BILLING CODE 3510-22-P